DEPARTMENT OF HEALTH AND HUMAN SERVICES

National Institutes of Health

Center for Scientific Review; Amended Notice of Meeting

Notice is hereby given of a change in the meeting of the Center for Scientific Review Special Emphasis Panel, October 29, 2013, 10:00 a.m. to October 29, 2013, 03:00 p.m., National Institutes of Health, 6701 Rockledge Drive, Bethesda, MD, 20892 which was published in the Federal Register on October 03, 2013, 78 FR 61376.

The meeting will be held on November 12, 2013, from 01:00 p.m. to 04:30 p.m. The meeting location remains the same. The meeting is closed to the public.

Dated: October 24, 2013.
Michelle Trout,
Program Analyst, Office of Federal Advisory Committee Policy.

[FR Doc. 2013-25507 Filed 10-28-13; 8:45 am]

BILLING CODE 4140-01-P